DEPARTMENT OF LABOR

Employment and Training Administration

[TA-W-55,614]

Technical Fabricators, Inc., Spartanburg, SC; Notice of Termination of Investigation

Pursuant to Section 221 of the Trade Act of 1974, as amended, an investigation was initiated on September 16, 2004 in response to a petition filed by a company official on behalf of workers at Technical Fabricators, Inc., Spartanburg, South Carolina.

The petitioner has requested that the petition be withdrawn. Consequently, the investigation has been terminated.

Signed at Washington, DC, this 30th day of September 2004.
Richard Church,
Certifying Officer, Division of Trade Adjustment Assistance.

[FR Doc. E4-2698 Filed 10-15-04; 8:45 am]

BILLING CODE 4510-30-P